SMALL BUSINESS ADMINISTRATION

[License No. 03/03-0271]

Patriot Capital IV (A), L.P.; Notice Seeking Exemption Under of the Small Business Investment Act, Conflicts of Interest

Notice is hereby given that Patriot Capital IV (A), L.P., 509 South Exeter Street, Suite 210, Baltimore, MD 21202, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Patriot Capital III SBIC, L.P. provides equity financing to Avenger Flight Group, LLC, 1450 Lee Wagener Blvd., Fort Lauderdale, FL 33315.

The financing is brought within the purview of § 107.730(a)(2) of the Regulations because Patriot Capital III SBIC, L.P. is currently invested in Avenger Flight Group, LLC and because of its level of ownership, Avenger Flight Group, LLC is an Associate. Patriot Capital III SBIC, L.P. and Patriot Capital IV (A), L.P. are also Associates and Patriot Capital IV (A), L.P. is seeking to invest in Avenger Flight Group, LLC in the identical securities on the same relative proportions and at the same valuation and on the same terms and conditions as Patriot Capital III SBIC, L.P. Therefore, this transaction is considered financing an Associate, requiring a prior SBA exemption.

Notice is hereby given that any interested person may submit written comments on the transaction, within fifteen days of the date of this publication, to the Associate Administrator for Investment, U.S. Small Business Administration, 409 Third Street SW, Washington, DC 20416.

A. Joseph Shepard,
Associate Administrator, Office of Investment and Innovation.

[FR Doc. 2019-10906 Filed 5-23-19; 8:45 am]

BILLING CODE 8025-01-P